INTERNATIONAL TRADE COMMISSION

[Investigation No. 1205-9]

Certain Festive Articles: Recommendations for Modifying the Harmonized Tariff Schedule of the United States

AGENCY: United States International Trade Commission.

ACTION: Change in date for transmitting recommendations to the President.

SUMMARY: The Commission has changed the date on which it intends to report its recommendations to the President in this matter from December 13, 2010, to April 28, 2011, to allow more time to complete the report, including its recommendations. In an earlier notice the Commission had indicated it would transmit its recommendations by December 13, 2010 (see notice published in the Federal Register of December 2, 2010 (75 FR 75185)). This notice is being issued as an update only, and interested parties are not being asked or invited to submit additional views.

ADDRESSES: All Commission offices are located in the United States International Trade Commission Building, 500 E Street, SW., Washington, DC. The public record for this investigation may be viewed on the Commission's electronic docket (EDIS) at http://www.usitc.gov/secretary/edis.htm.

FOR FURTHER INFORMATION CONTACT: David Beck, Director, Office of Tariff Affairs and Trade Agreements (202-205-2603, fax 202-205-2616, david.beck@usitc.gov), or Janis Summers, Attorney Advisor, Office of Tariff Affairs and Trade Agreements (202-205-2605, janis.summers@usitc.gov). The media should contact Margaret O'Laughlin, Office of External Affairs (202-205-1819, margaret.olaughlin@usitc.gov). Hearing impaired individuals may obtain information on this matter by contacting the Commission's TDD terminal at 202-205-1810. General information concerning the Commission may also be obtained by accessing its Internet Web site at http://www.usitc.gov. (http://www.usitc.gov). Persons with mobility impairments who will need special assistance in gaining access to the Commission should contact the Office of the Secretary at 202-205-2000. http://www.usitc.gov/secretary/edis.htm.

By order of the Commission.
Issued: March 15, 2011.
James R. Holbein,
Acting Secretary to the Commission.

[FR Doc. 2011-6506 Filed 3-18-11; 8:45 am]

BILLING CODE 7020-02-P